DEPARTMENT OF DEFENSE

Department of the Navy

Meeting of the Board of Advisors (BOA) to the President, Naval Postgraduate School (NPS)

AGENCY: Department of the Navy, DoD.

ACTION: Notice of open meeting.

SUMMARY: The purpose of the meeting is to elicit the advice of the board on the Naval Service's Postgraduate Education Program and the collaborative exchange and partnership between NPS and the Air Force Institute of Technology. The board examines the effectiveness with which the NPS is accomplishing its mission. To this end, the board will inquire into the curricula, instruction, physical equipment, administration, state of morale of the student body, faculty, and staff, fiscal affairs, and any other matters relating to the operation of the NPS as the board considers pertinent. This meeting will be open to the public.

DATES: The meeting will be held on Tuesday, April 17, 2007, from 8 a.m. to 4 p.m. and on Wednesday, April 18, 2007, from 8 a.m. to 12 p.m. All written comments regarding the NPS BOA should be received by April 6, 2007, and be directed to President, Naval Postgraduate School (Attn: Jaye Panza), 1 University Circle, Monterey, CA 93943-5000 or by fax 831-656-3145.

ADDRESSES: The meeting will be held at the Naval Postgraduate School, Ingersoll Hall, 1 University Circle, Monterey, CA.

FOR FURTHER INFORMATION CONTACT: Jaye Panza, Naval Postgraduate School, Monterey, CA 93943-5000, telephone number 831-656-2514.

Dated: March 6, 2007.
M.C. Holley,
Lieutenant Commander, Judge Advocate Generals Corps, U.S. Navy, Alternate Federal Register Liaison Officer.

[FR Doc. E7-4639 Filed 3-13-07; 8:45 am]

BILLING CODE 3810-FF-P